DEPARTMENT OF DEFENSE

Department of the Air Force

Department of the Air Force and U.S. Army; Notice of Intent To Prepare an Environmental Impact Statement for the Modernization and Enhancement of Ranges, Airspace, and Training Areas in the Joint Pacific Alaska Range Complex in Alaska

ACTION: Notice of Intent.

SUMMARY: The U.S. Air Force and U.S. Army, on behalf of Alaskan Command (ALCOM), are issuing this notice to advise the public of their intent to prepare an environmental impact statement (EIS) evaluating potential environmental impacts associated with modernizing and enhancing current military ground and air training assets in Alaska.

This notice is published pursuant to the National Environmental Policy Act (NEPA) of 1969, as amended (42 United States Code [U.S.C] 4321, et seq.); the Council on Environmental Quality Regulations for Implementing the Procedural Provisions of NEPA (40 Code of Federal Regulations (CFR) 1500-1508); Executive Orders 11514 and 11991; the Environmental Quality Improvement Act of 1970, as amended (42 U.S.C. 4371 et seq.); the Air Force Environmental Impact Analysis Process (32 CFR 989); and the “Environmental Analysis of Army Actions” (32 CFR 651). This Notice of Intent describes the Air Force's and Army's scoping process and identifies ALCOM's point of contact.

In accordance with the U.S. Department of Defense (DoD) Directive 1322.18, Military Training, and Commander U.S. Pacific Command (PACOM), Joint Training Program of Excellence, ALCOM as DoD's regional joint headquarters in Alaska, has coordinated with the Services to develop a joint strategy to identify joint training opportunities in Alaska, maximize the utilization of training resources, and improve joint training. The JPARC Modernization and Enhancement EIS will evaluate the elements of this strategy which are reasonably foreseeable.

At present, the Joint Pacific Alaska Range Complex (JPARC) consists of all land, air, and sea training areas used by the Army, Navy, and Air Force in Alaska. The military uses the JPARC to conduct testing, unit-level training, and to support various joint exercises and mission rehearsals. The JPARC was originally developed to support cold war weapons, tactics, and techniques. Its current configuration cannot fully meet the training requirement for forces and exercises located in Alaska. The proposed JPARC enhancements would enable realistic, joint training and testing to support emerging technologies, respond to recent battlefield experiences, and train with tactics and new weapons systems to meet combat and national security needs. JPARC enhancements would enable the Services to train realistically and jointly so military personnel could succeed in their mutually supportive combat roles when exposed to situations faced in actual combat.

The proposal would modernize existing military training and testing capabilities located in the interior of Alaska through expanding and/or establishing new Military Operations Areas, restricted airspace, airspace corridors, ground maneuver training areas, and training complexes to provide adequate airspace and controlled-access land to test and train under realistic and varied conditions. The EIS will analyze the environmental effects of the proposed changes and their alternatives.

All of the actions proposed in this EIS are independent of each other and have stand-alone value for improving training operations. While full implementation of all the proposed actions is desired and would result in the greatest training benefit for aircrew and ground troop training, each of the proposals, if implemented alone, would have a positive effect on the use and/or management of JPARC. Depending on decisions made and the availability of funding, it is possible that some of the actions being proposed could be implemented soon after a Record of Decision (ROD) is issued, some actions could be implemented quite some time after the ROD is issued, some actions may be deferred until such time as they are ripe for decision, and some proposed actions may not be implemented. The following projects are those currently proposed to be addressed in the JPARC Modernization and Enhancement EIS.

Fox 3 Military Operations Area (MOA) Expansion and New Paxon MOA: The Air Force and Army propose to expand the Fox 3 MOA and establish a new, adjacent Paxon MOA to provide the vertical and horizontal airspace structure needed to better accommodate low-altitude threat and multiple-axis mission activities during JPARC training exercises. The Air Force and Army intend to consider the following alternatives, as well as a No Action Alternative: Alternative A includes the proposed expanded Fox 3 MOA and the proposed new Paxon MOA with both the high- and low-altitude MOAs; Alternative B includes only the Fox 3 MOA expansion (as in Alternative A) without the new Paxon MOA; Alternative C includes the Fox 3 MOA expansion without the low-altitude MOA; Alternative D proposes keeping the Fox 3 MOA boundaries the same as they currently exist, but separating the MOA into four subdivided sectors, as well as high- and low-altitude MOAs. The low-altitude MOA would extend from 500 feet above ground level (AGL) up to, but not including, 5,000 feet AGL. The high-altitude MOA elevation

Realistic Live Ordnance Delivery: As the range and lethality of modern weapons increase, so do the amounts of training area and airspace required to safely and effectively train with these weapons. The current ranges and restricted airspace of the JPARC are not capable of supporting realistic training with modern and emerging weapons. The Army and Air Force propose to establish a realistic air and ground training environment that would accommodate live ordnance delivery of modern and emerging weapons by considering the following alternatives, as well as a No Action Alternative: Alternative A proposes the use of existing targets in the Oklahoma Impact Area within Restricted Area 2202 (R-2202) with the expansion of this restricted airspace to the west to encompass the airspace and underlying lands; Alternative B proposes that live ordnance delivery make use of existing targets at the Oklahoma and Blair Lakes Impact Areas with new restricted airspace established that links R-2211 and R-2202. Based on the ceiling altitude of R-2211 as flight level (FL) 310 and the upper altitude of R-2202 being FL310, the proposed altitude for the restricted airspace linking these two restricted areas would also be FL310. Higher altitudes may be required for some live-fire ordnance profiles; Alternative C proposes weapons corridors through the Eielson Military Operations Area and overlying air traffic control assigned airspace that would provide two protective pathways for live ordnance use within the Oklahoma Impact Area. These corridors would be approximately 10 miles in width and extend from FL200 to FL310, as needed, to accommodate the delivery altitudes of the ordnance types being delivered.

Joint Combined Arms Live Fire (JCALF): Current tactics and techniques established in the Iraq and Afghanistan theaters of operation require the Army to regularly integrate attack aviation into collective and unit-level training. There are currently no facilities available in the JPARC which are capable of supporting this type of training. The Army proposes to establish restricted airspace to support JCALF training over the Battle Area Complex (BAX) located in the Donnelly Training Area (DTA), near Delta Junction, and the Digital Multipurpose Training Range located in the Yukon Training Area (YTA). The Army and Air Force intend to consider the following alternative, as well as a No Action Alternative, or other reasonable alternative developed during scoping: Alternative A proposes to establish new restricted airspace over the BAX in the DTA to support controlled firing areas and new restricted airspace located within YTA. This restricted airspace would provide protective areas for the hazardous activities and weapons surface danger zones of sufficient size for the types of ordnance used.

Night Joint Training: Combat situations during the hours of limited visibility require using advanced night vision technology. Training with this equipment can only be conducted at night. The Army and Air Force intend to consider the following alternatives, as well as a No Action Alternative: Alternative A proposes to extend the special use airspace hours to accommodate night training for major flying exercises (MFE) during March and October. The hours are currently set to cease training activities by 10 p.m., with landing by 11 p.m., local time; Alternative B proposes to extend the JPARC operating hours to allow tactical flight operations until midnight and landing by 1 a.m., local time, during March and October. This would allow night training during these months from a minimum of 1.5 hours to a maximum of 2.5 hours for each exercise; Alternative C proposes to extend the JPARC operating hours to allow tactical flight operations until midnight and landing by 1 a.m., local time, during all months of the year and for all training purposes, not just for MFEs, as is the current situation.

Remotely Piloted Aircraft (RPA)/Unmanned Aerial Vehicle (UAV) Access: RPA/UAVs conduct reconnaissance and surveillance activities; RPA/UAV access throughout the JPARC ranges and airspace is critical to enhance JPARC training and exercises. The following RPA/UAV corridors have been developed as individual, standalone proposed actions and alternatives: Eielson Air Force Base (AFB) to Restricted Area 2211 (R-2211); Eielson AFB Class D airspace to R-2205; Allen Field to R-2202; R-2202 to R-2211; R-2205 to R-2202; Fort Wainwright to R-2211; and Fort Wainwright to R-2205. The Air Force and Army intend to consider the following alternatives, as well as a No Action Alternative: Alternative A would establish new restricted airspace for each RPA/UAV corridor identified above; Alternative B would establish restricted airspace via a Certificate of Authorization, or other suitable airspace designated by the Federal Aviation Administration for each RPA/UAV corridor identified above.

Enhanced Access to Existing Maneuver Space: Services currently lack year-round accessibility in the Tanana Flats, Donnelly, and Yukon Training Areas. The Army and Air Force intend to consider the following alternatives, as well as a No Action Alternative: Alternative A follows the proposed railroad alignment 11 miles and crosses the Tanana Flats along an existing winter-access trail to higher ground around Blair Lakes; Alternative B follows the proposed railroad alignment 8 miles before crossing the Tanana Flats toward Hill 1406. The route traverses the eastern slopes of Hill 1406, then a broad terrace southeast toward Blair Lakes, crossing Dry Creek near Blair Lakes; Alternative C follows existing trail systems southwest across the Tanana Flats toward Hill 1406, avoiding open areas as much as possible. From Hill 1406, two possible routes to Blair Lakes are being considered: The first traverses the eastern slopes of Hill 1406 and then a broad terrace southeast toward Blair Lakes, crossing Dry Creek near Blair Lakes; the second route remains on the flats north of Hill 1406, crossing Dry Creek where the creek enters the flats, then running up the Dry Creek Valley to the higher ground around Blair Lakes; Alternative D is similar to Alternative C, except it takes a more direct route from the Tanana River toward Hill 1406. From Hill 1406, two routes to Blair Lakes are being considered: The first traverses the eastern slopes of Hill 1406, then a broad terrace southeast toward Blair Lakes, crossing Dry Creek near Blair Lakes; the second route remains on the flats north of Hill 1406, crossing Dry Creek, and then running up the Dry Creek Valley to higher ground around Blair Lakes.

Joint Air-Ground Integration Complex (JAGIC): The Army requires a facility to train and test air and ground combat units on skills necessary to detect, identify, and effectively engage targets while directing Attack Aviation as in actual combat. A modern facility designed to support this type of training does not exist in the JPARC. The Army proposes to develop the JAGIC to provide this capability. The Army and Air Force intend to consider the following alternatives, as well as a No Action Alternative: Alternative A proposes to locate the JAGIC in the central area of Donnelly Training Area-West, proximate to the western boundary of the Oklahoma Impact Area; Alternative B proposes to locate the JAGIC in the Stuart Creek Impact Area within the Yukon Training Area; Alternative C proposes to locate the JAGIC in the Blair Lakes Impact Area near the southern boundary of the Tanana Flats Training Area under the existing Restricted Area 2211 (R-2211).

Intermediate Staging Bases (ISBs): Currently, Soldiers and airmen spend up to 6 hours traveling to and from training sites within the JPARC. This travel reduces available training time and increases risks of traffic accidents. The Army proposes to locate and construct a 1,000- Soldier ISB near the existing Battle Area Complex (BAX), along with three 200- to 500-Soldier ISBs at Yukon Training Area (YTA), Donnelly Training Area-West (DTA-West), and Salcha to reduce travel time, increase safety, and increase available training time. The Army and Air Force intend to consider the following alternatives, as well as a No Action Alternative: Alternative A proposes to provide a permanent 1,000-Soldier ISB near existing BAX, along with three permanent 200- to 500-Soldier ISBs at YTA, DTA-West, and Salcha. The facility is intended for joint use. ISBs are proposed at key points along the planned rail corridor close to the planned bridge crossings; Alternative B proposes to use existing temporary “relocatable” ISB facilities over the next 7 years, and then replace them with permanent facilities.

Missile Live Fire for AIM-9X and AIM-120: The AIM-9X and AIM-120 missile systems are the main air-to-air armaments for the F-22 Raptor and F-15 Eagle. For effective training to be conducted with these systems, live training shots need to be executed as part of both individual pilot training and joint training exercises with other air and ground units. The Air Force and Army intend to consider the following alternative, as well as a No Action Alternative, or other reasonable alternative developed during scoping: Alternative A proposes to consider the existing Temporary Maritime Activities Area (300 nautical miles [NM] long by 150 NM wide; 0 feet above ground level [AGL]—flight level (FL) 600; includes subsurface operating areas), and Warning Area 612 (WA-612) (0 feet AGL-FL290) in the Gulf of Alaska for the missile live fire delivery of the AIM-9X and AIM-120 missiles by Air Force F-22 fighter aircraft.

Joint Precision Airdrop System (JPADS) Drop Zones: JPADS is a GPS [global positioning system]-guided precision airdrop system designed to deliver supplies and equipment to ground forces. JPADS is not currently used within the JPARC. Alaska-based airmen with the requirement to train on JPADS must currently travel to Yuma Proving Grounds in Arizona to conduct this training. The Army and Air Force propose to establish JPADS drop zones as part of JPARC training exercises. The Army and Air Force intend to consider the following alternatives, as well as a No Action Alternative: Alternative A proposes conducting JPADS operations at a reduced altitude sufficient to ensure the airdrop land within Restricted Area 2205 (R-2205) in the Yukon Training Area; Alternative B proposes conducting JPADS operations at a reduced altitude sufficient to ensure the airdrop land within in the Donnelly Training Area Oklahoma Impact Area. (The key distinction between Alternatives A and B is that R-2205 currently has more time and space available to accommodate JPADS drop zone training exercises.) The EIS will address environmental consequences to airspace, noise, safety, biological resources, socioeconomics, transportation, cultural resources, water resources, wetlands, air quality, land use, hazardous materials, recreation and visual resources, environmental justice and risks to children, subsistence, and cumulative impacts. Public and agency scoping may identify other environmental resources for consideration in the EIS.

The Army and Air Force will invite the Bureau of Land Management, Environmental Protection Agency, Federal Aviation Administration, National Marine Fisheries Service, National Park Service, and U.S. Fish and Wildlife Service to be cooperating agencies in preparation of this EIS.

ALCOM will coordinate government-to-government consultation with Federally recognized Tribes, following DoD policy.

Scoping Meetings: The Army and Air Force, with the support of ALCOM, will conduct public scoping meetings in communities likely to be affected by the proposed action to solicit public and agency input. The purpose of scoping is to obtain public, Alaska Native, and government input on the proposed action and alternatives, as well as to gain a better understanding of the potential issues and concerns related to this proposal. The schedule and locations of the scoping meetings are provided below:

Thursday, January 13, 2011: 6:30-8:30 p.m., Millennium Hotel, 4800 Spenard Road, Anchorage, Alaska.

Tuesday, January 18, 2011: 6:30-8:30 p.m., Caribou Hotel, Mile 186.5 Grand Highway, Glenallen, Alaska.

Wednesday, January 19, 2011: 6:30-8:30 p.m., Alaska Steakhouse and Hotel, 1420 Alaska Highway, Delta Junction, Alaska.

Thursday, January 20, 2011: 12-2 p.m. and 4-8 p.m., Princess Hotel, 4477 Pikes Landing Road, Fairbanks, Alaska.

Monday, January 24, 2011: 6:30-8:30 p.m., Motel Nord Haven, 249 George Parks Highway, Healy, Alaska.

Tuesday, January 25, 2011: 6:30-8:30 p.m., Swiss Alaska Inn, 22056 South F Street, Talkeetna, Alaska.

Wednesday, January 26, 2011: 6:30-8:30 p.m., Menard Memorial Sports Center, 1001 S. Mack Drive, Wasilla, Alaska.

Federal, State, and local agencies and interested groups, Alaska Native organizations, and individual persons are invited to attend the scoping open house meetings. All are encouraged to provide comments on the proposed actions either at the scoping meetings, by mail, or electronically, postmarked or electronically submitted no later than February 4, 2011, to ensure consideration in the draft EIS. All comments received during this scoping period will be considered in the preparation of the draft EIS.

Point of Contact: Please direct any written comments or requests for information to ALCOM Public Affairs, 9480 Pease Avenue, Suite 120, JBER, AK 99506, Phone: 907-552-2341, Fax: 907-552-5411 or submit them electronically at http://www.jparceis.com. You may also request handicap assistance or translation services for the public scoping meetings in advance through the ALCOM Public Affairs Office.

Bao-Anh Trinh,
Air Force Federal Register Liaison Officer.

[FR Doc. 2010-30759 Filed 12-7-10; 8:45 am]

BILLING CODE 5001-10-P